FEDERAL RETIREMENT THRIFT INVESTMENT

Board Member Meeting

77 K Street NE, 10th Floor, Washington, DC 20002

December 16, 2019, 10:00 a.m., Telephonic

Open Session

1. Approval of the November 13, 2019 Board Meeting Minutes

2. Monthly Reports

(a) Participant Activity Report

(b) Investment Performance

(c) Legislative Report

3. Quarterly Reports

(d) Vendor Risk Management Update

Closed Session

Information covered under 5 U.S.C. 552b (c)(4).

FOR FURTHER INFORMATION CONTACT: Kimberly Weaver, Director, Office of External Affairs, (202) 942-1640.

Dated: December 3, 2019.
Megan Grumbine,
General Counsel, Federal Retirement Thrift Investment Board.

[FR Doc. 2019-26376 Filed 12-5-19; 8:45 am]

BILLING CODE 6760-01-P